DEPARTMENT OF COMMERCE

National Oceanic and Atmospheric Administration

RIN 0648-XM24

Endangered and Threatened Species; Take of Anadromous Fish

AGENCY: National Marine Fisheries Service (NMFS), National Oceanic and Atmospheric Administration (NOAA), Commerce.

ACTION: Receipt of applications for scientific research permits; request for comments.

SUMMARY: Notice is hereby given that NMFS has received applications for scientific research from Natural Resource Scientists, Incorporated (NRS), in Red Bluff, CA (14077), and from the U.S. Geological Services (USGS) in Sacramento, CA (14150). These permits would affect the federally endangered Sacramento River winter-run Chinook salmon and the threatened Central Valley spring-run Chinook salmon Evolutionarily Significant Units (ESUs), the federally threatened Central Valley steelhead Distinct Population Segment (DPS), and the federally threatened southern Distinct Population of North American green sturgeon (southern DPS of green sturgeon). This document serves to notify the public of the availability of the permit applications for review and comment.

DATES: Written comments on the permit applications must be received no later than 5 p.m. Pacific Standard Time on January 20, 2009.

ADDRESSES: Comments submitted by e-mail must be sent to the following address FRNpermitsSAC@noaa.gov. The applications and related documents are available for review by appointment, for permits : Protected Resources Division, NMFS, 650 Capitol Mall, Suite 8-300, Sacramento, CA 95814 (ph: 916-930-3600, fax: 916-930-3629).

FOR FURTHER INFORMATION CONTACT: Shirley Witalis telephone 916-930-3606, or e-mail: Shirley.Witalis@noaa.gov.

SUPPLEMENTARY INFORMATION:

Authority

Issuance of permits and permit modifications, as required by the Endangered Species Act of 1973 (16 U.S.C. 1531 1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to federally-listed endangered Sacramento River winter-run Chinook salmon (Oncorhynchus tshawytscha) ESU, threatened Central Valley spring-run Chinook salmon (O. tshawytscha) ESU, threatened Central Valley steelhead (O. mykiss) DPS, threatened Central California Coast steelhead (O. mykiss), and threatened southern DPS of North American green sturgeon (Acipenser medirostris).

Applications Received

NRS requests a 2-year permit (14077) for take of juvenile Sacramento River winter-run Chinook salmon, Central Valley spring-run Chinook salmon, Central Valley steelhead, and southern DPS of green sturgeon to conduct site-specific research at three irrigation diversion sites off the Sacramento River, California. This research is part of an on-going investigation into developing criteria for prioritizing fish screening projects, and will correlate fish entrainment with the physical, hydraulic, and habitat variables at each diversion site. All fish will be identified as to species/race, enumerated, measured for length, and placed back into the canals; all entrained live fish will be returned to the river. Sampling at each diversion site will be performed daily from April 1 through October 31, 2009, and April 1 through October 31, 2010. NRS requests authorization for an estimated annual non-lethal take of 1,466 juvenile Sacramento River winter-run Chinook salmon, 1,307 Central Valley juvenile spring-run Chinook salmon, and 155 Central Valley juvenile steelhead, for a total of 2,928 salmonids per year. NRS estimates the annual non-lethal take of 184 juvenile southern DPS of green sturgeon. Estimates of take for the two year study are 5,856 salmonids and 368 green sturgeon.

USGS, in co-sponsorship with the California Department of Water Resources, California Bay-Delta Authority, and the U.S. Bureau of Reclamation, requests a 5-year permit (14150) for take of juvenile Sacramento River winter-run Chinook salmon and Central Valley spring-run Chinook salmon associated with researching the mechanisms that control out-migration pathways and survival of endangered juvenile salmon in the Sacramento-San Joaquin Delta, California (Delta) from the interaction between seasonal timescale variations in upstream hydrology and strong tidal forcing effects from water management actions. The goals of the study are two-fold: (1) to determine the factors (channel geometry, velocity structure, and behavior) that control entrainment in the Delta Cross Channel and Georgiana Slough; and (2) to determine routes and survival of out-migrating juvenile salmon throughout the north, west and centralDelta. The primary source of study fish will be 5500 Central Valley late-fall subyearling Chinook salmon (O. tshawytscha) from Coleman National Fish Hatchery (CNFH). To investigate differences of behavioral response between hatchery and wild fish, an admixture of 250 juvenile winter-, spring-, fall- and late fall-run Chinook salmon will be collected from

U.S. Fish and Wildlife Service or California Department of Fish and Game rotary screw trap monitoring efforts in the Sacramento River at river mile (RM) 242 and RM 205 and transported directly to a shoreline research location or the California-Nevada Fish Health Center at the CNFH complex and held prior to being transported to shoreline research locations for surgical insertion of acoustic transmitters; a tissue sample will be collected from wild juvenile salmon for genetic analysis. Shoreline research locations will include: (1) the Tower Bridge in Sacramento, California; and (2) the city of Ryde, California (RM 24); and Georgiana Slough. Hatchery and wild salmon will then be transported and/or released for tracking by acoustic telemetry receivers in place throughout the Delta. Fish capture and transport will begin in mid-October and continue until early February of the following year; all field activities will be completed by March of each sampling season. USGS requests authorization for an estimated take of 100 wild Sacramento River winter-run Chinook salmon and 38 Central Valley spring-run Chinook salmon, including no more than 15 percent unintentional mortality resulting from handling, transporting and holding, tissue-sampling, invasive tagging, and releasing for tracking by hydroacoustic telemetry arrays.

Dated: December 12, 2008.
Angela Somma,
Chief, Endangered Species Division, Office of Protected Resources, National Marine Fisheries Service.

[FR Doc. E8-30105 Filed 12-17-08; 8:45 am]

BILLING CODE 3510-22-S